POSTAL SERVICE

39 CFR Part 111

Picture Permit Imprint Indicia

AGENCY: Postal Service™.

ACTION: Final rule.

SUMMARY: The Postal Service will revise Mailing Standards of the United States Postal Service, Domestic Mail Manual (DMM®) 604.5 to add picture permit imprint indicia standards allowing customers to include business-related color images, such as corporate logos, company brand or trademarks, in the permit indicia area of First-Class Mail® full-service automation letters and postcards, and all Standard Mail® letters.

DATES: Effective Date: June 24, 2012.

FOR FURTHER INFORMATION CONTACT: Nii-Kwashie Aryeetey 202-268-7442 or Suzanne Newman at 202-268-5581.

SUPPLEMENTARY INFORMATION: The use of picture permit imprint indicia is designed to improve the effectiveness of a mailpiece by including a business-related color image within the permit imprint indicia. When tested, indicia placed in the upper right corner of the mailpiece that contained color images did not impede the Postal Service's ability to obtain the required postage payment information from the permit indicia.

Additionally, market research shows that customers believe that picture permit imprint indicia will enhance the perception of mail. Mailers indicated that they would use picture permit imprints for existing mail volume and some said they would increase their mail volumes if picture permit imprint indicia were allowed.

Therefore, this final rule expands current permit imprint standards to allow mailers to, subject to additional Postal Service standards, include a color image of a business-related design, such as corporate logos or trademarks, as part of their permit imprint indicia on full service automation IMb™ mailings, for a per piece fee in addition to postage. Mailers interested in picture permit imprint indicia may contact picturepermit@usps.com for more information.

Pending favorable action by the Postal Regulatory Commission on the Postal Service's March 28, 2012 filing of the price and classification changes related to charges for picture permit imprint indicia, the Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

600 Basic Standards for All Mailing Services

* * * * *

604 Postage Payment Methods

* * * * *

5.0 Permit Imprint (Indicia)

5.1 General Standards

5.1.1 Description

[Revise 5.1.1 by adding a new last sentence to read as follows:]

* * * A picture permit imprint indicia (5.4) may not be used on reply mail pieces.

* * * * *

5.1.4 Permit and Fees

[Revise the text of 5.1.4 as follows:]

A mailer may obtain a permit to use a permit imprint indicia by submitting PS Form 3615, Mailing Permit Application and Customer Profile, and the applicable fees to the Post Office where mailings are made. Except for mailpieces bearing picture permit imprint indicia (5.4), there are no other fees for the use of a permit imprint indicia but other fees (e.g., an annual presort mailing fee) may be due depending on the class of mail to be prepared.

* * * * *

5.3 Indicia Design, Placement, and Content

* * * * *

5.3.4 Indicia Placement on Mailpiece

[Revise the second sentence of 5.3.4 and the text of 5.3.4a as follows:]

* * * The indicia may not be placed below the address or encroach on reserved space (e.g., ACS participant code, delivery point barcode). The indicia can be placed in one of these four positions:

a. Upper right corner of the mailpiece. (Also the recommended location for picture permit imprint indicia)

* * * * *

[Revise 5.3.4c as follows:]

c. Upper right area (not lower than the address area) on an affixed address label or when printed in an address block.

* * * * *

5.3.11 Indicia Formats

[Revise the text of 5.3.11 as follows:]

Unless prepared under 5.3.12 or 5.4, permit imprint indicia on mailpieces must be prepared in one of the formats in Exhibit 5.3.11, as applicable to the price claimed or type of mail. (Not all permissible combinations of content elements are shown.) Specific markings may be required as applicable for the price claimed.

* * * * *

5.3.12 Optional Indicia Format

[Revise the introductory text in 5.3.12 as follows:]

As options to the basic format under 5.3.11, permit imprint indicia may be prepared as picture permit imprint indicia under 5.4 or in other formats subject to these conditions:

* * * * *

[Add new 5.4 as follows:]

5.4 Picture Permit Imprint Indicia

5.4.1 Description

Picture permit imprint indicia may contain business-related color images, such as corporate logos, brand, trademarks and other pictorial business images (5.4.3 5.4.5). These images are known as picture permit imprints and may be used to pay postage and extra service fees on full service IMb mailings of First-Class Mail automation letters and postcards, and Standard Mail letters.

5.4.2 Postage and Fees

Picture permit imprint is charged a per piece fee, in addition to the postage applicable for the class of mail. See Notice 123—Price List.

5.4.3 Prohibitions

Color images used in picture permit imprint indicia must maintain neutrality on social or political issues in order to avoid the creation of a public forum for the debate or dissemination of political ideas by private parties and must also adhere to the following prohibitions:

a. Must not resemble or imitate U.S. postage stamps, a postage evidencing system indicia (604.4), postcard postage, Customized Postage, postage printed from USPS Automated Postal Centers (APCs) and USPS Certified 3rd Party Kiosks, precancelled postage stamps or other postage payment methods.

b. The color image used in picture permit imprint indicia must not include USPS-registered trademarks or words, symbols, or designs used by the USPS to identify a class of mail, price of postage, or level of service, unless such elements are correctly used under the applicable standards for the mailpiece on which they appear and the corresponding postage and fees have been paid.

c. Two-toned, black and white images are not permitted.

d. Only commercial images and/or text are eligible for inclusion. Commercial images and/or text means images and/or text that promote nothing other than a product or service available in commerce. Images and/or text that take a position, explicitly or implicitly, on government, public policy, morality, politics, or religion (whether or not they also convey a commercial message) are not eligible for inclusion.

e. Eligible commercial images and/or text must not: (1) Be indecent or obscene; (2) depict violent or sexual material that would be harmful to minors; (3) be unlawful or legally actionable; (4) compete with a Postal Service product or service; or (5) promote alcohol, tobacco, weapons, or gambling.

f. A picture permit imprint indicia (5.4) may not be used on reply mail pieces.

5.4.4 Application

A Picture Permit Imprint Application must be completed and Postal Service authorization must be obtained for individual picture permit imprint indicia prior to the acceptance of mailpieces bearing these indicia. Customers must sign an indemnification statement and, upon request, provide a valid addressed sample of mailpieces bearing the color images for testing. Contact the manager, Transaction and Correspondence (608.8.1) for more information. Additional information on the customer agreement is available at http://picturepermit.usps.com.

5.4.5 Picture Permit Imprint Indicia Format

As options to the basic format under 5.3.11, permit imprint indicia may be prepared in Picture Permit Imprint format subject to these conditions:

a. Indicia elements must be OCR readable (prefer sans serif) and no smaller than 8 point font.

b. The class of mail must be printed in all capital letters.

c. Indicia must not be placed in any location lower than the complete address information. The upper right corner of the mailpiece is the preferred location.

d. A clear space of at least ¼ inch must be maintained to the right and above the picture permit imprint indicia.

e. A clear space of at least 0.050 inch must be maintained to the left and below the picture permit imprint indicia.

f. Mailpieces bearing picture permit indicia must be presented as full service automation IMb mailings, under 705.24.

g. All pieces in the mailing must bear a picture permit.

h. Imprint (i.e.: image and text area) dimensions may be between 1.625″ to 2.00″ in height and between 1.31″ to 1.50″ in width.

i. Image dimensions may be between .84″ to 1.00″ in height and between 1.31″ to 1.5″ in width.

j. A clear space of 5/32 inch (+/− 1/32 inch) on all sides must be maintained between the color image and indicia text.

k. Only color images are permitted in image area (two-tone, black and white print is prohibited).

* * * * *

We will publish an appropriate amendment to 39 CFR part 111 to reflect these changes.

Stanley F. Mires,
Attorney, Legal Policy & Legislative Advice.

[FR Doc. 2012-10014 Filed 4-26-12; 8:45 am]

BILLING CODE 7710-12-P